DEPARTMENT OF HOMELAND SECURITY

U.S. Customs and Border Protection

Modification of National Customs Automation Program Test Concerning Automated Commercial Environment Document Image System

AGENCY: U.S. Customs and Border Protection, Department of Homeland Security.

ACTION: General notice.

SUMMARY: This document announces U.S. Customs and Border Protection's (CBP's) plan to modify the National Customs Automation Program (NCAP) test concerning document imaging, known as the Document Image System (DIS) test. The DIS test allows Automated Commercial Environment (ACE) participants to submit electronic images of a specific set of CBP and Partner Government Agency (PGA) forms and supporting information to CBP via a CBP- approved Electronic Data Interchange (EDI). The third phase of the DIS test expands the eligible forms supported by the test. This notice provides DIS test details including commencement date for the third phase, eligibility, procedural and documentation requirements, and test development and evaluation methods.

DATES: The modified DIS test will commence no earlier than July 10, 2014, and will continue until concluded by way of announcement in the Federal Register.

ADDRESSES: Comments concerning this notice and any aspect of the test may be submitted at any time during the test via email to Monica Crockett at monica.crockett@dhs.gov. In the subject line of your email, please indicate “Comment on Document Image System (DIS)”.

FOR FURTHER INFORMATION CONTACT: For policy-related questions, contact Monica Crockett at monica.v.crockett@cbp.dhs.gov. For technical questions related to ABI transmissions, contact your assigned client representative. Any partner government agency (PGA) interested in participating in DIS should contact John Kyranos at john.g.kyranos@cbp.dhs.gov. Interested parties without an assigned client representative should direct their questions to Lori Kwiatkowski at lori.kwiatkowski@dhs.gov.

SUPPLEMENTARY INFORMATION:

Background

On April 6, 2012, U.S. Customs and Border Protection (CBP) published in the Federal Register a notice announcing a National Customs Automation Program (NCAP) test called the Document Image System (DIS) test. See 77 FR 20835. The DIS test allows Automated Commercial Environment (ACE) participants to submit electronic images of a specific set of CBP and Partner Government Agency (PGA) forms and supporting information to CBP. Specifically, importers and brokers are allowed to submit specified official CBP documents and specified PGA forms via a CBP-approved Electronic Data Interchange (EDI) (please see Section V, “Technical Specifications”, below for details).

On July 23, 2013, CBP published a subsequent notice announcing modifications to both the DIS NCAP test as well as the Simplified Entry test. See 78 FR 44142. On August 29, 2013, CBP published a notice correcting an error in the description of Animal and Plant Health Inspection Service (APHIS) document PPQ Form 586. See 78 FR 53466. The Simplified Entry test has been renamed as the ACE Cargo Release test. See 78 FR 66039 (November 4, 2013).

The NCAP was established in Subtitle B of Title VI—Customs Modernization, in the North American Free Trade Agreement Implementation Act (Pub. L. 103-182, 107 Stat. 2057, 2170, December 8, 1993) (Customs Modernization Act). See 19 U.S.C. 1411. Through NCAP, the initial thrust of customs modernization was on trade compliance and the development of ACE, the planned successor to the Automated Commercial System (ACS). ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions. CBP's modernization efforts are accomplished through phased releases of ACE component functionality designed to introduce new functionality or to replace a specific legacy ACS function. Each release will begin with a test and will end with mandatory compliance with the new ACE feature, thus retiring the legacy ACS function. Each release builds on previous releases and sets the foundation for subsequent releases.

For the convenience of the public, a chronological listing of Federal Register publications detailing ACE test developments in Entry, Summary, Accounts and Revenue (ESAR) is set forth below in Section VI, entitled, “Development of ACE Prototypes”. The eligibility criteria, procedures, terms, conditions and rules set forth in the previous DIS notices remain in effect unless otherwise explicitly changed by this or subsequent notices published in the Federal Register.

Authorization for the Test

The Customs Modernization provisions in the North American Free Trade Agreement Implementation Act provide the Commissioner of CBP with authority to conduct limited test programs or procedures designed to evaluate planned components of the NCAP. This test is authorized pursuant to § 101.9(b) of the CBP Regulations (19 CFR 101.9(b)) which provides for the testing of NCAP programs or procedures. See Treasury Decision (T.D.) 95-21.

Document Image System (DIS) Test Program

This notice announces Phase Three of the Document Image System test. Under the DIS test, parties who file entry summaries in ACE are allowed to submit specified CBP and PGA documents via a CBP-approved EDI. DIS capabilities will continue to be delivered in multiple phases.

The first phase of the DIS test enabled participating importers and brokers to transmit images of specified CBP and PGA forms with supporting information via a CBP approved EDI in an Extensible Markup Language (XML) format, in lieu of conventional paper methods. See 77 FR 20835 (April 6, 2012). In Phase Two, CBP reduced the number of metadata elements required for each document and specified forms that were eligible to be submitted earlier, i.e. at the time of manifest, or transmitted via a CBP- approved EDI to support ACE Cargo Release filings (previously known as Simplified Entry filings). Additionally, the pool of eligible participants was expanded to include software providers merely electronically transmitting data received for transmission to CBP. See 78 FR 44142 (July 23, 2013). In Phase Three, CBP is adding to the list of documents supported by the DIS test.

Test Participation

I. Eligibility Requirements

In Phase One of the DIS test, participation was limited to importers or brokers who are ACE entry summary filers. Phase Two of the DIS test expanded the eligible participant pool to include software providers merely electronically transmitting data received for transmission to CBP. The Phase Two eligibility expansion does not apply to the ACE Cargo Release test. Only the participants previously selected for the ACE Cargo Release test are eligible to transmit through DIS documents in support of ACE Cargo Release filings. See 78 FR 44142 (July 23, 2013) for additional information and specific eligibility criteria.

As announced in this notice, Phase Three of the DIS test expands upon the CBP and PGA forms that may now be submitted as part of the DIS test. All other eligibility criteria as specified in prior DIS test notices remain the same.

II. Rules for Submitting Images in Document Image System (DIS)

The following rules will apply to all participants involved in the DIS testing process:

• In Phase Two of the DIS test, CBP indicated two categories of documents for transmission through DIS: (1) Documents that require a request from CBP or the PGA prior to the transmission; and (2) documents that may be transmitted without prior request. Beginning with Phase Three, the rules for submitting images through DIS are updated as follows: (1) If the document(s) transmitted is required to obtain release, including certified from ACE entry summary, the document(s) may be transmitted without a prior request from CBP or the PGA; and (2) if the document(s) is transmitted in support of entry summary pursuant to a prior request from CBP or the PGA, it will be accepted (if an entry summary document is submitted that has not been requested by CBP or a PGA, CBP will not acknowledge the submission but may separately request the document).

• The filer may only file documents that CBP can accept electronically (see documents supported in Section III below). If CBP cannot accept the information electronically, the filer must file the information by paper.

• Original documents transmitted via this test must be retained and made available, if requested by CBP or a PGA.

III. Documents Supported in the Third Phase of the Test

The documents supported in the first and second phases of the DIS test continue to be supported. In addition, upon commencement of Phase Three of the DIS test, the following PGA forms and documents will also be supported:

• Animal and Plant Health Inspection Service (APHIS) STAT Supporting Statement (i.e., a letter on company letterhead that provides a statement from the producer/manufacturer certifying that conditions for the import of the specified merchandise have been met).

• Center for Disease Control and Prevention (CDC) Form 0728, Permit to Import or Transfer Etiological Agents or Vectors of Human Disease (Note: this is an updated version of the same form announced in Phase Two of the DIS test).

• Foreign Government Sanitary Certificate (Veterinary Health Certificate) (used by APHIS or other PGA).

• National Highway Traffic Safety Administration (NHTSA) Form HS-7, Declaration (including supporting documents as specified by the form).

• NHTSA HS-474, Bond to Ensure Conformance with Motor Vehicle Safety and Bumper Standards.

• Pro-Forma Invoice (used by CBP).

Complete List of DIS Test Supported Documents (Phases One, Two, and Three)

• Animal and Plant Health Inspection Service (APHIS) STAT Supporting Statement.

• APHIS Import Permit.

• APHIS Plant Protection and Quarantine (PPQ) Form 368, Notice of Arrival (of a restricted article at the port of entry).

• APHIS PPQ Form 203, Foreign Site Certificate of Inspection and/or Treatment.

• APHIS PPQ Form 586, Permit To Transit Plants and/or Plant Products, Plant Pests, and/or Associated Soil through the United States.

• APHIS PPQ Form 587, Permit to Import Plants or Plant Products.

• APHIS Transit Permit.

• Foreign Government Sanitary Certificate (Veterinary Health Certificate) (used by APHIS or other PGA).

• Ingredients List (used by APHIS or other PGA).

• Phytosanitary Certificates (used by APHIS or other PGA).

• Proof of origin (for origin shipments of milk and milk products) (used by APHIS or other PGA).

• Center for Disease Control and Prevention (CDC) Importation Permission Letter.

• CDC Permit Exemption Letter.

• CDC Form 0728, Permit to Import or Transfer Etiological Agents or Vectors of Human Disease.

• CBP Form 3229, Certificate of Origin.

• CBP Form 3299, Declaration for Free Entry of Unaccompanied Articles.

• CBP Form 4455, Certificate of Registration.

• CBP Form 4457, Certificate of Registration for Personal Effects Taken Abroad.

• Commercial Invoice (used by CBP).

• Invoice Working Sheet(s) (used by CBP).

• Other documents to support CBP Form 3461, Entry/Immediate Delivery (used by CBP for ACE Cargo Release*).

• Packing List (used by CBP).

• Passport, Driver's License, or Government Issued ID (used by CBP for ACE Cargo Release*).

• Permit (used by CBP for ACE Cargo Release*).

• Pro-Forma Invoice (used by CBP).

• Vehicle Title, Certificate (used by CBP for ACE Cargo Release*).

• Defense Contract Management Agency (DCMA) Certificate of Duty Free Entry.

• Environmental Protection Agency (EPA) Form 3520-1, Importation of Motor Vehicles and Engines (on road).

• EPA Form 3520-21, Importation of Motor Vehicles and Engines (off road).

• EPA Form 3540-1, Notice of Arrival of Pesticides and Devices.

• EPA Pesticide Label.

• EPA Pre-approved Vehicle/Engine Exemption Letter.

• Food Safety and Inspection Service (FSIS) Form 9010-1, Application for the Return of Exported Products to the United States.

• FSIS Form 9060-5, Meat and Poultry Export Certificate of Wholesomeness.

• FSIS Form 9540-4, Shipper Notification—Importation of Undenatured Inedible Meat Product.

• FSIS Form 9540-5, Notification of Intent (to import meat, poultry, or egg products or “Samples for Laboratory Examination, Research, Evaluative Testing or Trade Show Exhibition”).

• National Highway Traffic Safety Administration (NHTSA) HS-7, Declaration.

• NHTSA HS-474, Bond to Ensure Conformance with Motor Vehicle Safety and Bumper Standards.

• National Oceanic and Atmospheric Administration (NOAA) Form 370, Fisheries Certificate of Origin.

• NOAA Toothfish Pre-Approval.

• Toxic Substances Control Act (TSCA) Import Certification Form.

* This form may ONLY be submitted by ACE Cargo Release Test participants previously selected by CBP.

Please be advised that the DIS test is limited to the above referenced CBP and PGA forms. Other forms may be referenced in the DIS Implementation Guidelines, but such forms are not currently eligible for the present DIS test. As additional forms become eligible they will be announced via publication in the Federal Register.

IV. Recordkeeping

Any form or document submitted via DIS is an electronic copy of an original document that is subject to the recordkeeping requirements of 19 CFR Part 163. Every form or document transmitted through DIS must be a complete, accurate and unaltered copy of the original document.

V. Technical Specifications

In Phase Two, the DIS test reduced the number of metadata elements required for each document to only those necessary to identify the transmitter, the document preparer, the CBP request (if applicable), the document and description, and associated transaction. Documents must be submitted in an XML format via Secure File Transfer Protocol (FTP), Secure Web Services, or existing EDI ABI MQ interfaces. All responses back to test participants will also be sent in the form of an XML message. Additional information pertaining to technical specifications (see DIS Implementation Guidelines) can be accessed on CBP.gov at the following link: http://www.cbp.gov/document/forms/dis-implementation-guide

VI. Development of ACE Prototypes

A chronological listing of Federal Register publications detailing Entry Summary Accounts and Revenue (ESAR) ACE test developments is set forth below.

• ACE Portal Accounts and Subsequent Revision Notices: 67 FR 21800 (May 1, 2002); 70 FR 5199 (February 1, 2005); 69 FR 5360 and 69 FR 5362 (February 4, 2004); 69 FR 54302 (September 8, 2004).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of NCAP Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of NCAP Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release to Allow Importers and Brokers to Certify From ACE Entry Summary: 79 FR 24744 (May 1, 2014).

• Modification of National Customs Automation Program (NCAP) Test Concerning Automated Commercial Environment (ACE) Cargo Release for Truck Carriers: 79 FR 25142 (May 2, 2014).

Dated: June 20, 2014.
Sandra L. Bell,
Acting Assistant Commissioner, Office of International Trade.

[FR Doc. 2014-14874 Filed 6-24-14; 8:45 am]

BILLING CODE 9111-14-P